DEPARTMENT OF TRANSPORTATION

Federal Aviation Administration

14 CFR Part 73

[Docket No. FAA-2016-7055; Airspace Docket No. 15-AWP-11]

RIN 2120-AA66

Proposed Establishment of Restricted Area R-2306F; Yuma Proving Ground, AZ.

AGENCY: Federal Aviation Administration (FAA), DOT.

ACTION: Notice of proposed rulemaking (NPRM).

SUMMARY: This action proposes to establish restricted area R-2306F in the vicinity of Laguna Army Airfield at Yuma Proving Ground, AZ. The proposed restricted area would allow the Department of the Army to maximize the existing fixed infrastructure to support hazardous test programs and segregate these activities from non-participating aircraft at Yuma Proving Ground (YPG). These programs include ground and airborne testing of non-eye-safe lasers, high energy radars and the development of unproven weapons systems. The restricted airspace would ensure the safe testing and evaluation of these programs without impacting non-participating aircraft and the general public.

DATES: Comments must be received on or before September 8, 2016.

ADDRESSES: Send comments on this proposal to the U.S. Department of Transportation, Docket Operations, 1200 New Jersey Avenue SE., West Building Ground Floor, Room W12-140, Washington, DC 20590; telephone: 1 (800) 647-5527, or (202) 366-9826. You must identify FAA Docket No. FAA-2016-7055 and Airspace Docket No. 15-AWP-11, at the beginning of your comments. You may also submit comments through the Internet at http://www.regulations.gov. Comments on environmental and land use aspects should be directed to: Meg McDonald, Environmental Sciences Division, U.S. Army Garrison-Yuma, Yuma, Arizona 85365-9498. You may review the public docket containing the proposal, any comments received, and any final disposition in person in the Docket Office between 9:00 a.m. and 5:00 p.m., Monday through Friday, except Federal holidays. The Docket Office (telephone 1 (800) 647-5527), is on the ground floor of the building at the above address.

FOR FURTHER INFORMATION CONTACT: Paul Gallant, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, part A, subpart I, Section 40103. Under that section, the FAA is charged with prescribing regulations to assign the use of the airspace necessary to ensure the safety of aircraft and the efficient use of airspace. This regulation is within the scope of that authority as it would establish a restricted area at Yuma, AZ, to enhance aviation safety and accommodate essential Army testing requirements.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2016-7055 and Airspace Docket No. 15-AWP-11) and be submitted in triplicate to the Docket Office at the address listed above. You may also submit comments through the Internet at www.regulations.gov.

Commenters wishing the FAA to acknowledge receipt of their comments on this action must submit with those comments a self-addressed, stamped postcard on which the following statement is made: “Comments to FAA Docket No. FAA-2016-7055 and Airspace Docket No. 15-AWP-11.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at www.regulations.gov.

You may review the public docket containing the proposal, any comments received and any final disposition in person at the Docket Office (see ADDRESSES section for address and phone number) between 9:00 a.m. and 5:00 p.m., Monday through Friday, except Federal holidays. An informal docket may also be examined during normal business hours at the office of the Operations Support Group, Western Service Center, Federal Aviation Administration, 1601 Lind Ave. SW., Renton, WA 98057.

Background

Yuma Proving Ground (YPG) is a Major Range and Test Facility Base that conducts the development and testing of emerging aviation weapon technologies. This testing includes both ground and air-to-ground propagation of non-eye-safe lasers, high power radars and developmental, unproven weapons systems. Testing includes the actual operation of these systems using various proven and unproven aircraft platforms. Due to the hazards of these systems, it is imperative that these activities be segregated within a restricted area. To safely and efficiently test and evaluate these technologies, YPG needs to use the existing airspace and ground infrastructure at Laguna Army Airfield. Use of the Airfield is limited to “official business only” with “prior permission required.” Therefore, hazardous testing could be conducted safely within proposed R-2306F without impacting non-participating aircraft.

The Proposal

The FAA is proposing an amendment to 14 CFR part 73 to establish a new restricted area, R-2306F, extending from the surface to 1,700 feet MSL, in the vicinity of Laguna Army Airfield at Yuma Proving Ground, AZ. The proposed area would be used for the testing of various hazardous systems including non-eye-safe lasers, high energy radars and the development of experimental weapons. Testing would include the operation of these systems from various aircraft platforms. Restricted airspace is required to effectively test these complex integrated systems without posing a hazard to non-participating aircraft and/or ground personnel. Proposed R-2306F would be completely contained over YPG-owned land. No supersonic flights would be conducted within the proposed airspace.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1F, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.23 Arizona [Amended]

2. § 73.23 is amended as follows:

* * * * *

R-2306F, Yuma West, AZ [New]

Boundaries. Beginning at lat. 32° 51′ 52″ N., long. 114° 26′ 52″ W.; to lat. 32° 52′ 30″ N., long. 114° 21′ 03″ W.; to lat. 32° 51′ 15″ N., long. 114° 21′ 03″ W.; to lat. 32° 51′ 18″ N., long. 114° 19′ 29″ W.; then clockwise along a 3.5 NM arc centered at lat. 32° 51′ 52″ N., long. 114° 23′ 34″ W.; to lat. 32° 49′ 30″ N., long. 114° 26′ 39″ W.; to lat. 32° 49′ 51″ N., long. 114° 26′ 38″ W.; to lat. 32° 50′ 08″ N., long. 114° 26′ 33″ W.; to lat. 32° 50′ 17″ N., long. 114° 26′ 19″ W.; to lat. 32° 50′ 31″ N., long. 114° 26′ 17″ W.; to lat. 32° 50′ 42″ N., long. 114° 26′ 29″ W.; to lat. 32° 51′ 11″ N., long. 114° 26′ 34″ W.; to the point of beginning

Designated altitudes. Surface to 1,700 feet MSL.

Time of designation. Intermittent, 0600-1800 local time, Monday-Saturday; other times by NOTAM.

Controlling agency. Yuma Approach Control, MCAS Yuma, AZ.

Using agency. U.S., Army, Commanding Officer, Yuma Proving Ground, Yuma, AZ.

* * * * *

Issued in Washington, DC, on July 19, 2016.
Leslie M. Swann,
Acting Manager, Airspace Policy Group.

[FR Doc. 2016-17558 Filed 7-22-16; 8:45 am]

BILLING CODE 4910-13-P